DEPARTMENT OF DEFENSE

Department of the Navy

Notice of Intent To Grant Partially Exclusive License; Unified Operations LLC

AGENCY: Department of the Navy, DoD.

ACTION: Notice.

SUMMARY: The Department of the Navy hereby gives notice of its intent to grant Unified Operations, LLC a revocable, nonassignable, partially exclusive license, with exclusive fields of use in agriculture, forestry, fishing and hunting, mining, quarrying, and oil and gas extraction, construction, wholesale trade, warehousing, retail estate and rental and leasing, administrative and support and waste management and remediation services, arts, entertainment, and recreation, accommodation and food services, ultra light & barriers/barricades, health care and social assistance, educational services, in the United States to practice the Government-owned inventions, U.S. Patent No. 7,156,249, issued January 2, 2007: Container and Related Methods//U.S. Patent No. 7,726,496, issued June 1, 2010: Shipping and Storage System//U.S. Patent No. 7,491,024, issued February 17, 2009: Interlocking Pallets, and Shipping and Storage Systems Employing the Same//U.S. Patent No. 7,739,965, issued June 22, 2010: Automatically Interlocking Pallets, and Shipping and Storage Systems Employing the Same.

DATES: Anyone wishing to object to the grant of this license must file written objections along with supporting evidence, if any, not later than July 11, 2014.

ADDRESSES: Written objections are to be filed with the Naval Surface Warfare Center Indian Head Explosive Ordnance Disposal Technology Division (IHEODTD), Code OC4, Bldg. D-31, 3824 Strauss Avenue, Indian Head, MD 20640-5152.

FOR FURTHER INFORMATION CONTACT: Dr. J. Scott Deiter, Head, Technology Transfer Office, Naval Surface Warfare Center IHEODTD, Code CAB, 3824 Strauss Avenue, Indian Head, MD 20640-5152, telephone 301-744-6111.

Authority: 35 U.S.C. 207, 37 CFR Part 404.

Dated: June 18, 2014.
N.A. Hagerty-Ford,
Commander, Office of the Judge Advocate General, U.S. Navy, Federal Register Liaison Officer.

[FR Doc. 2014-14956 Filed 6-25-14; 8:45 am]

BILLING CODE 3810-FF-P